DEPARTMENT OF DEFENSE

Department of the Army

Program Comment for Army Inter-War Era Historic Housing (1919-1940)

AGENCY: Department of the Army, DoD.

ACTION: Notification of Intent.

SUMMARY: On September 19, 2019 the Department of the Army notified the Advisory Council on Historic Preservation (ACHP) of the Army's intent to request a Program Comment for Army Inter-War Era Historic Housing 1919-1940 in accordance with the National Historic Preservation Act (NHPA) Section 106, and 36 CFR 800.14(e). The Program Comment will demonstrate Army compliance with the NHPA regarding management of its inventory of Inter-War Era historic housing, associated structures, and landscape features. The Army plans to submit its formal request for Program Comment for Army Inter-War Era Historic Housing (1919-1940) to the ACHP in July 2020.

DATES: Consideration will be given to all comments regarding the Army's intent to request a Program Comment for Army Inter-War Era Historic Housing (1919-1940) from the ACHP that are received within 45 days following this publication date.

ADDRESSES: You may submit written comments identified by “Program Comment for Army Inter-War Era Historic Housing (1919-1940)” to: Office of the Assistant Secretary of the Army for Installations, Energy and Environment, ATTN: DASA-ESOH/Federal Preservation Officer, 110 Army Pentagon, Room 3E464, Washington, DC 20310.

FOR FURTHER INFORMATION CONTACT: Dr. David Guldenzopf, Department of the Army Federal Preservation Officer, (571) 256-7822, david.b.guldenzopf.civ@mail.mil.

SUPPLEMENTARY INFORMATION: The intent of the Program Comment is to improve the quality of life, health, and safety of military families, increase historic property management efficiency and cost effectiveness, and preserve the historical and architectural character of this housing by meeting NHPA Section 106 requirements in a programmatic manner. There are approximately 2,700 Army Inter-War Era historic housing units (1919-1940) on 35 Army installations.

The Army Quartermaster Corps led the design and construction of housing during the Inter-War era. The Quartermaster Corps adopted standardized plans for the nationally popular Colonial Revival design style for Army Inter-War era housing. With the use of standardized plans, the same Colonial Revival designs were repeated, one after the other, on Army installations.

Army Inter-War Era housing, associated structures, and landscape features are subject to a large number of frequent and repetitive undertakings. The category of undertaking for the Program Comment for Army Inter-War Era Historic Housing (1919-1940) is management actions: Maintenance, repair, rehabilitation, renovation, abatement, mothballing, demolition, replacement, transfer, sale, and lease. These actions present a potential for adverse effects to historic properties.

The Army's proposed Program Comment treatment measures for Army Inter-War Era historic housing will ensure the effects of Army management actions are taken into account. The proposed treatment measures include: An Army Inter-War era housing historic context; identification of Army Inter-War Era historic housing that may be of particular importance; public educational materials; and development of Design Guidelines for Army Inter-War Era Historic Housing 1919-1940. In order to address the health and safety risks to military families living in historic housing from potential hazards such as lead-based paint and address high costs associated with use of “in-kind” historic materials, the Army will implement its management actions using modern industry standard imitative materials that replicate historic design elements identified in the Design Guidelines. The Army plans to monitor implementation of the Program Comment treatment measures.

The Army has provided notification of the proposed Program Comment to key stakeholders including the ACHP, National Conference of State Historic Preservation Officers (NCSHPO), the National Trust for Historic Preservation, and the National Association of Tribal Historic Preservation Officers. The Army's notice of intent to request a Program Comment to the ACHP was preceded by coordination of the concept with officials from the ACHP, NCSHPO, Office of the Secretary of Defense, other Military Departments, and DoD Privatized Housing Partners.

Dated: October 22, 2019.
Brenda S. Bowen,
Army Federal Register Liaison Officer.

[FR Doc. 2019-23508 Filed 10-25-19; 8:45 am]

BILLING CODE 3710-03-P